COMMITTEE FOR THE IMPLEMENTATION OF TEXTILE AGREEMENTS

Adjustment of Import Limits for Certain Cotton, Wool, Man-Made Fiber, Silk Blend and Other Vegetable Fiber Textiles and Textile Products Produced or Manufactured in the People's Republic of China

July 6, 2000.

AGENCY: Committee for the Implementation of Textile Agreements (CITA).

ACTION: Issuing a directive to the Commissioner of Customs adjusting limits.

EFFECTIVE DATE: July 13, 2000.

FOR FURTHER INFORMATION CONTACT: Roy Unger, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, call (202) 482-3715.

SUPPLEMENTARY INFORMATION:

Authority: Section 204 of the Agricultural Act of 1956, as amended (7 U.S.C. 1854); Executive Order 11651 of March 3, 1972, as amended.

The current limits for certain categories are being adjusted for carryover, swing, group swing, and the recrediting of unused carryforward.

A description of the textile and apparel categories in terms of HTS numbers is available in the CORRELATION: Textile and Apparel Categories with the Harmonized Tariff Schedule of the United States (see Federal Register notice 64 FR 71982, published on December 22, 1999). Also see 64 FR 69228, published on December 10, 1999.

Richard Steinkamp,
Acting Chairman, Committee for the Implementation of Textile Agreements.

Committee for the Implementation of Textile Agreements

July 6, 2000.

Commissioner of Customs,

Department of the Treasury, Washington, DC 20229.

Dear Commissioner: This directive amends, but does not cancel, the directive issued to you on December 6, 1999, by the Chairman, Committee for the Implementation of Textile Agreements. That directive concerns imports of certain cotton, wool, man-made fiber, silk blend and other vegetable fiber textiles and textile products, produced or manufactured in China and exported during the twelve-month period which began on January 1, 2000 and extends through December 31, 2000.

Effective on July 13, 2000, you are directed to adjust the limits for the following categories, as provided for under the terms of the current bilateral textile agreement between the Governments of the United States and the People's Republic of China:

Category | Adjusted twelve-month limit ¹
Group I
200, 218, 219, 226, 237, 239, 300/301, 313-315, 317/326, 331, 333-336, 338/339, 340-342, 345, 347/348, 350-352, 359-C ², 359-V ³, 360-363, 369-D ⁴, 369-H ⁵, 369-L ⁶, 410, 433-436, 438, 440, 442-444, 445/446, 447, 448, 607, 611, 613-615, 617, 631, 633-636, 638/639, 640-643, 644/844, 645/646, 647-652, 659-C ⁷, 659-H ⁸, 659-S ⁹, 666, 669-P ¹⁰, 670-L ¹¹, 831, 833, 835, 836, 840, 842 and 845-847, as a group | 1,514,466,758 square meters equivalent.
Sublevels in Group I
200 | 798,180 kilograms.
218 | 12,123,172 square meters.
219 | 2,663,554 square meters.
226 | 12,094,471 square meters.
237 | 2,227,444 dozen.
239 | 3,297,032 kilograms.
300/301 | 2,484,553 kilograms.
313 | 45,943,331 square meters.
314 | 53,450,809 square meters.
317/326 | 23,332,435 square meters of which not more than 4,463,953 square meters shall be in Category 326.
331 | 5,580,828 dozen pairs.
333 | 109,251 dozen.
334 | 353,835 dozen.
335 | 417,558 dozen.
336 | 185,543 dozen.
338/339 | 2,457,463 dozen of which not more than 1,816,459 dozen shall be in Categories 338-S/339-S ¹².
340 | 839,239 dozen of which not more than 419,619 dozen shall be in Category 340-Z ¹³.
341 | 719,352 dozen of which not more than 436,317 dozen shall be in Category 341-Y ¹⁴.
342 | 283,509 dozen.
345 | 134,465 dozen.
347/348 | 2,419,985 dozen.
350 | 182,417 dozen.
351 | 596,599 dozen.
352 | 1,725,269 dozen.
359-C | 672,436 kilograms.
359-V | 954,257 kilograms.
360 | 8,642,321 numbers of which not more than 5,645,274 numbers shall be in Category 360-P ¹⁵.
361 | 4,565,395 numbers.
362 | 7,633,987 numbers.
363 | 23,479,014 numbers.
369-D | 5,092,785 kilograms.
369-H | 5,530,233 kilograms.
369-L | 3,669,707 kilograms.
410 | 1,079,671 square meters of which not more than 865,473 square meters shall be in Category 410-A ¹⁶ and not more than 849,296 square meters shall be in Category 410-B ¹⁷.
433 | 22,003 dozen.
434 | 14,337 dozen.
435 | 25,841 dozen.
436 | 16,222 dozen.
438 | 27,858 dozen.
440 | 40,557 dozen of which not more than 23,175 dozen shall be in Category 440-M ¹⁸.
442 | 42,931 dozen.
443 | 135,706 numbers.
444 | 223,614 numbers.
445/446 | 298,874 dozen.
447 | 72,893 dozen.
448 | 23,956 dozen.
607 | 3,588,736 kilograms.
611 | 5,950,144 square meters.
613 | 8,419,448 square meters.
614 | 13,230,559 square meters.
615 | 27,543,621 square meters.
617 | 19,244,449 square meters.
631 | 1,440,856 dozen pairs.
633 | 62,017 dozen.
634 | 687,556 dozen.
635 | 725,251 dozen.
636 | 585,944 dozen.
638/639 | 2,584,271 dozen.
640 | 1,428,730 dozen.
641 | 1,412,458 dozen.
642 | 365,364 dozen.
643 | 551,517 numbers.
644/844 | 3,910,019 numbers.
645/646 | 884,600 dozen.
647 | 1,618,842 dozen.
648 | 1,164,438 dozen.
649 | 1,010,675 dozen.
650 | 128,875 dozen.
651 | 827,671 dozen of which not more than 147,358 dozen shall be in Category 651-B ¹⁹.
652 | 3,029,324 dozen.
659-C | 451,552 kilograms.
659-H | 3,079,901 kilograms.
659-S | 669,556 kilograms.
666 | 3,837,643 kilograms of which not more than 1,385,151 kilograms shall be in Category 666-C ²⁰.
669-P | 2,237,063 kilograms.
670-L | 17,471,826 kilograms.
831 | 632,536 dozen pairs.
833 | 32,336 dozen.
835 | 131,382 dozen.
836 | 306,009 dozen.
840 | 511,083 dozen.
842 | 296,248 dozen.
845 | 2,513,696 dozen.
846 | 193,561 dozen.
847 | 1,335,870 dozen.
Group II
330, 332, 349, 353, 354, 359-O ²¹, 431, 432, 439, 459, 630, 632, 653, 654 and 659-O ²², as a group | 132,076,642 square meters equivalent.
Group III
201, 220, 222, 223, 224-V ²³, 224-O ²⁴, 225, 227, 229, 369-O ²⁵, 400, 414, 464, 465, 469, 600, 603, 604-O ²⁶, 606, 618-622, 624-629, 665, 669-O ²⁷ and 670-O ²⁸, as a group | 274,546,086 square meters equivalent.
Sublevel in Group III
224-V | 3,932,558 square meters.
225 | 6,784,411 square meters.
Group IV
832, 834, 838, 839, 843, 850-852, 858 and 859, as a group | 12,478,390 square meters equivalent.
Levels not in a Group
369-S ²⁹ | 658,108 kilograms.
863-S ³⁰ | 9,314,276 numbers.
870 | 34,821,214 kilograms.

¹ The limits have not been adjusted to account for any imports exported after December 31, 1999.
² Category 359-C: only HTS numbers 6103.42.2025, 6103.49.8034, 6104.62.1020, 6104.69.8010, 6114.20.0048, 6114.20.0052, 6203.42.2010, 6203.42.2090, 6204.62.2010, 6211.32.0010, 6211.32.0025 and 6211.42.0010.
³ Category 359-V: only HTS numbers 6103.19.2030, 6103.19.9030, 6104.12.0040, 6104.19.8040, 6110.20.1022, 6110.20.1024, 6110.20.2030, 6110.20.2035, 6110.90.9044, 6110.90.9046, 6201.92.2010, 6202.92.2020, 6203.19.1030, 6203.19.9030, 6204.12.0040, 6204.19.8040, 6211.32.0070 and 6211.42.0070.
⁴ Category 369-D: only HTS numbers 6302.60.0010, 6302.91.0005 and 6302.91.0045.
⁵ Category 369-H: only HTS numbers 4202.22.4020, 4202.22.4500 and 4202.22.8030.
⁶ Category 369-L: only HTS numbers 4202.12.4000, 4202.12.8020, 4202.12.8060, 4202.92.1500, 4202.92.3016, 4202.92.6091 and 6307.90.9905.
⁷ Category 659-C: only HTS numbers 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017 and 6211.43.0010.
⁸ Category 659-H: only HTS numbers 6502.00.9030, 6504.00.9015, 6504.00.9060, 6505.90.5090, 6505.90.6090, 6505.90.7090 and 6505.90.8090.
⁹ Category 659-S: only HTS numbers 6112.31.0010, 6112.31.0020, 6112.41.0010, 6112.41.0020, 6112.41.0030, 6112.41.0040, 6211.11.1010, 6211.11.1020, 6211.12.1010 and 6211.12.1020.
¹⁰ Category 669-P: only HTS numbers 6305.32.0010, 6305.32.0020, 6305.33.0010, 6305.33.0020 and 6305.39.0000.
¹¹ Category 670-L: only HTS numbers 4202.12.8030, 4202.12.8070, 4202.92.3020, 4202.92.3031, 4202.92.9026 and 6307.90.9907.
¹² Category 338-S: all HTS numbers except 6109.10.0012, 6109.10.0014, 6109.10.0018 and 6109.10.0023; Category 339-S: all HTS numbers except 6109.10.0040, 6109.10.0045, 6109.10.0060 and 6109.10.0065.
¹³ Category 340-Z: only HTS numbers 6205.20.2015, 6205.20.2020, 6205.20.2050 and 6205.20.2060.
¹⁴ Category 341-Y: only HTS numbers 6204.22.3060, 6206.30.3010, 6206.30.3030 and 6211.42.0054.
¹⁵ Category 360-P: only HTS numbers 6302.21.3010, 6302.21.5010, 6302.21.7010, 6302.21.9010, 6302.31.3010, 6302.31.5010, 6302.31.7010 and 6302.31.9010.
¹⁶ Category 410-A: only HTS numbers 5111.11.3000, 5111.11.7030, 5111.11.7060, 5111.19.2000, 5111.19.6020, 5111.19.6040, 5111.19.6060, 5111.19.6080, 5111.20.9000, 5111.30.9000, 5111.90.3000, 5111.90.9000, 5212.11.1010, 5212.12.1010, 5212.13.1010, 5212.14.1010, 5212.15.1010, 5212.21.1010, 5212.22.1010, 5212.23.1010, 5212.24.1010, 5212.25.1010, 5311.00.2000, 5407.91.0510, 5407.92.0510, 5407.93.0510, 5407.94.0510, 5408.31.0510, 5408.32.0510, 5408.33.0510, 5408.34.0510, 5515.13.0510, 5515.22.0510, 5515.92.0510, 5516.31.0510, 5516.32.0510, 5516.33.0510, 5516.34.0510 and 6301.20.0020.
¹⁷ Category 410-B: only HTS numbers 5007.10.6030, 5007.90.6030, 5112.11.2030, 5112.11.2060, 5112.19.9010, 5112.19.9020, 5112.19.9030, 5112.19.9040, 5112.19.9050, 5112.19.9060, 5112.20.3000, 5112.30.3000, 5112.90.3000, 5112.90.9010, 5112.90.9090, 5212.11.1020, 5212.12.1020, 5212.13.1020, 5212.14.1020, 5212.15.1020, 5212.21.1020, 5212.22.1020, 5212.23.1020, 5212.24.1020, 5212.25.1020, 5309.21.2000, 5309.29.2000, 5407.91.0520, 5407.92.0520, 5407.93.0520, 5407.94.0520, 5408.31.0520, 5408.32.0520, 5408.33.0520, 5408.34.0520, 5515.13.0520, 5515.22.0520, 5515.92.0520, 5516.31.0520, 5516.32.0520, 5516.33.0520 and 5516.34.0520.
¹⁸ Category 440-M: Only HTS numbers 6203.21.0030, 6203.23.0030, 6205.10.1000, 6205.10.2010, 6205.10.2020, 6205.30.1510, 6205.30.1520, 6205.90.3020, 6205.90.4020 and 6211.31.0030.
¹⁹ Category 651-B: only HTS numbers 6107.22.0015 and 6108.32.0015.
²⁰ Category 666-C: only HTS number 6303.92.2000.
²¹ Category 359-O: all HTS numbers except 6103.42.2025, 6103.49.8034, 6104.62.1020, 6104.69.8010, 6114.20.0048, 6114.20.0052, 6203.42.2010, 6203.42.2090, 6204.62.2010, 6211.32.0010, 6211.32.0025, 6211.42.0010 (Category 359-C); 6103.19.2030, 6103.19.9030, 6104.12.0040, 6104.19.8040, 6110.20.1022, 6110.20.1024, 6110.20.2030, 6110.20.2035, 6110.90.9044, 6110.90.9046, 6201.92.2010, 6202.92.2020, 6203.19.1030, 6203.19.9030, 6204.12.0040, 6204.19.8040, 6211.32.0070 and 6211.42.0070 (Category 359-V).
²² Category 659-O: all HTS numbers except 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017, 6211.43.0010 (Category 659-C); 6502.00.9030, 6504.00.9015, 6504.00.9060, 6505.90.5090, 6505.90.6090, 6505.90.7090, 6505.90.8090 (Category 659-H); 6112.31.0010, 6112.31.0020, 6112.41.0010, 6112.41.0020, 6112.41.0030, 6112.41.0040, 6211.11.1010, 6211.11.1020, 6211.12.1010 and 6211.12.1020 (Category 659-S).
²³ Category 224-V: only HTS numbers 5801.21.0000, 5801.23.0000, 5801.24.0000, 5801.25.0010, 5801.25.0020, 5801.26.0010, 5801.26.0020, 5801.31.0000, 5801.33.0000, 5801.34.0000, 5801.35.0010, 5801.35.0020, 5801.36.0010 and 5801.36.0020.
²⁴ Category 224-O: all HTS numbers except 5801.21.0000, 5801.23.0000, 5801.24.0000, 5801.25.0010, 5801.25.0020, 5801.26.0010, 5801.26.0020, 5801.31.0000, 5801.33.0000, 5801.34.0000, 5801.35.0010, 5801.35.0020, 5801.36.0010 and 5801.36.0020 (Category 224-V).
²⁵ Category 369-O: all HTS numbers except 6302.60.0010, 6302.91.0005 and 6302.91.0045 (Category 369-D); 4202.22.4020, 4202.22.4500, 4202.22.8030 (Category 369-H); 4202.12.4000, 4202.12.8020, 4202.12.8060, 4202.92.1500, 4202.92.3016, 4202.92.6091 and 6307.90.9905 (Category 369-L); and 6307.10.2005 (Category 369-S)
²⁶ Category 604-O: all HTS numbers except 5509.32.0000 (Category 604-A).
²⁷ Category 669-O: all HTS numbers except 6305.32.0010, 6305.32.0020, 6305.33.0010, 6305.33.0020 and 6305.39.0000 (Category 669-P).
²⁸ Category 670-O: only HTS numbers 4202.22.4030, 4202.22.8050 and 4202.32.9550.
²⁹ Category 369-S: only HTS number 6307.10.2005.
³⁰ Category 863-S: only HTS number 6307.10.2015.

The Committee for the Implementation of Textile Agreements has determined that these actions fall within the foreign affairs exception to the rulemaking provisions of 5 U.S.C. 553(a)(1).

Sincerely,
Richard Steinkamp,
Acting Chairman, Committee for the Implementation of Textile Agreements.

[FR Doc. 00-17589 Filed 7-11-00; 8:45 am]

BILLING CODE 3510-DR-F